DEPARTMENT OF HOMELAND SECURITY

Coast Guard

[USCG-2004-17971]

Collection of Information Under Review by Office of Management and Budget (OMB): OMB Control Numbers: 1625-0019, 1625-0041, 1625-0062, 1625-0088 and 1625-0092

AGENCY: Coast Guard, DHS.

ACTION: Request for comments.

SUMMARY: In compliance with the Paperwork Reduction Act of 1995, this request for comments announces that the Coast Guard has forwarded five Information Collection Reports (ICRs)—(1) 1625-0019, Alternative Compliance for International and Inland Navigation Rules—33 CFR Parts 81 and 89; (2) 1625-0041, Various International Agreement Pollution Prevention Certificates and Documents, and Equivalency Certificates; (3) 1625-0062, Approval of Alterations to Marine Portable Tanks; Approval of Non-Specification Portable Tanks; (4) 1625-0088, Voyage Planning for Tank Barge Transits in the Northeast United States; and (5) 1625-0092, Sewage and Graywater Discharge Records for Certain Cruise Vessels Operating on Alaskan Waters—abstracted below to the Office of Information and Regulatory Affairs (OIRA) of the Office of Management and Budget (OMB) for review and comment. These ICRs describe the information we seek to collect from the public. Review and comment by OIRA ensures that we impose only paperwork burdens commensurate with our performance of duties.

DATES: Please submit comments on or before September 24, 2004.

ADDRESSES: To make sure that your comments and related material do not enter the docket [USCG-2004-17971] more than once, please submit them by only one of the following means:

(1) By mail to the Docket Management Facility, U.S. Department of Transportation (DOT), room PL-401, 400 Seventh, Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the completed ICRs are available through this docket on the Internet at http://dms.dot.gov, and also from Commandant (CG-611), U.S. Coast Guard Headquarters, room 6106 (Attn: Mr. Arthur Requina), 2100 Second Street, SW., Washington, DC 20593-0001. The telephone number is 202-267-2326.

FOR FURTHER INFORMATION CONTACT: Mr. Arthur Requina, Office of Information Management, 202-267-2326, for questions on these documents; or Ms. Andrea M. Jenkins, Program Manager, Docket Operations, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act” below.

Submitting comments: If you submit a comment, please include your name and address, identify the docket number for this request for comment [USCG-2004-17971], indicate the specific section of this document to which each comment applies, and give the reason for each comment. You may submit your comments and material by electronic means, mail, fax, or delivery to the Docket Management Facility at the address under ADDRESSES; but please submit them by only one means. If you submit them by mail or delivery, submit them in an unbound format, no larger than 8 ½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Regulatory History: This request constitutes the 30-day notice required by OIRA. The Coast Guard has already published (69 FR 32362, June 9, 2004) the 60-day notice required by OIRA. That notice elicited no comments.

Request for Comments: The Coast Guard invites comments on the proposed collection of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Number of the Information Collection Reports (ICR) addressed. Comments to DMS must contain the docket number of this request, USCG 2004-17971. Comments to OIRA are best assured of having their full effect if OIRA receives them 30 or fewer days after the publication of this request.

Information Collection Requests

1. Title: Alternative Compliance for International and Inland Navigation Rules—33 CFR Parts 81 and 89.

OMB Control Number: 1625-0019.

Type of Request: Extension of currently approved collection.

Affected Public: Vessel owners, operators, builders and agents.

Form: None.

Abstract: Certain vessels cannot comply with the International Navigation Rules (33 U.S.C. 1601) and Inland Navigation Rules (33 U.S.C. 2001). The Coast Guard thus provides an opportunity for alternative compliance. However, it is not possible to determine whether alternative compliance is appropriate, or what kind of alternative procedures might be necessary, without this collection.

Burden Estimates: The estimated burden is 180 hours a year.

2. Title: Various International Agreement Pollution Prevention Certificates and Documents, and Equivalency Certificates.

OMB Control Number: 1625-0041.

Type of Request: Revision to currently approved collection to account for new optional form.

Affected Public: Owners and operators of vessels.

Form: CG-5352, CG-5352A, CG-5352B and CG-6047.

Abstract: Compliance with MARPOL 73/78 aids in the prevention of pollution from ships.

Burden Estimate: The estimated burden is 6,780 hours a year.

3. Title: Approval of Alterations to Marine Portable Tanks; Approval of Non-Specification Portable Tanks.

OMB Control Number: 1625-0062.

Type of Request: Extension of currently approved collection.

Affected Public: Owners of marine portable tanks and owners/designers of non-specification portable tanks.

Form: None.

Abstract: Approval by the Coast Guard of alterations to marine portable tanks ensures that the altered tank retains the level of safety to which it was originally designed. In addition, rules that allow for the approval of non-specification portable tanks ensure that innovation and new designs are not frustrated by the regulation.

Burden Estimate: The estimated burden is 18 hours a year.

4. Title: Voyage Planning for Tank Barge Transits in the Northeast United States.

OMB Control Number: 1625-0088.

Type of Request: Extension of currently approved collection.

Affected Public: Owners and operators of towing vessels.

Form: None.

Abstract: The information for a voyage plan will provide a mechanism for assisting vessels towing tank barges to identify those specific risks, potential equipment failures, or human errors that may lead to accidents.

Burden Estimates: The estimated burden is 420 hours a year.

5. Title: Sewage and Graywater Discharge Records for Certain Cruise Vessels Operating on Alaskan Waters.

OMB Control Number: 1625-0092.

Type of Request: Extension of currently approved collection.

Affected Public: Owners, operators, and masters of vessels.

Form: None.

Abstract: Title 33 CFR Part 159 Subpart E prescribe regulations governing the discharge of sewage and graywater from cruise vessels, requires sampling and testing of sewage and graywater discharges, and establishes reporting and recordkeeping requirements.

Burden Estimates: The estimated burden is 910 hours a year.

Dated: August 18, 2004.
Clifford I. Pearson,
Assistant Commandant for C4 and Information Technology.

[FR Doc. 04-19450 Filed 8-24-04; 8:45 am]

BILLING CODE 4910-15-P